DEPARTMENT OF AGRICULTURE

Forest Service

National Forests in Mississippi, Tombigbee and Holly Springs Resource Advisory Committee

AGENCY: Forest Service, USDA.

ACTION: Notice of meeting.

SUMMARY: The Tombigbee and Holly Springs National Forests Resource Advisory Committee will meet in Starkville, MS. The committee is meeting as authorized under the Secure Rural Schools and Community Self-Determination Act (Pub. L. 110-343) and in compliance with the Federal Advisory Committee Act.

DATES: The meeting will be held on July 14, 2011, and will begin at 6 p.m.

ADDRESSES: The meeting will be held at the Mississippi State University College of Forest Resources, Tulley Auditorium, Thompson Hall, 775 Stone Blvd., Mississippi State, MS 39762-9690. Written comments should be sent to Robert Claybrook, Tombigbee National Forest, P.O. Box 912, Ackerman, MS 39735. Comments may also be sent via e-mail to rclaybrook@fs.fed.us, or via facsimile to 662-285-3608.

All comments, including names and addresses when provided, are placed in the record and are available for public inspection and copying. The public may inspect comments received at Tombigbee National Forest, 6052 Hwy 15 South, Ackerman, MS 39735. Visitors are encouraged to call ahead to 662-285-3264 to facilitate entry into the building.

FOR FURTHER INFORMATION CONTACT: Robert Claybrook, RAC coordinator, USDA, Tombigbee National Forest, P.O. Box 912, Ackerman, MS 39735; (662) 285-3264; e-mail rclaybrook@fs.fed.us.

Individuals who use telecommunication devices for the deaf (TDD) may call the Federal Information Relay Service (FIRS) at 1-800-877-8339 between 8 a.m. and 8 p.m., Eastern Standard Time, Monday through Friday.

SUPPLEMENTARY INFORMATION: The meeting is open to the public. The following business will be conducted: (1) Welcome/Introductions (2) Question and Answer Period (3) Election of officers (4) Set next meeting date. Persons who wish to bring related matters to the attention of the Committee may file written statements with the Committee staff before or after the meeting.

Dated: June 28, 2011.
Caren Briscoe,
Designated Federal Officer.

[FR Doc. 2011-17406 Filed 7-12-11; 8:45 am]

BILLING CODE 3410-11-P